DEPARTMENT OF HOUSING AND URBAN DEVELOPMENT

[Docket No. FR-4950-FA-03]

Announcement of Funding Awards for the Community Development Technical Assistance Programs Fiscal Year 2005

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and the amounts of the awards made available by HUD.

FOR FURTHER INFORMATION CONTACT: Mark A. Horwath, Director, Office of Technical Assistance and Management, Office of Community Planning and Development, 451 Seventh Street, SW., Room 7218, Washington, DC 20410-7000; telephone (202) 708-3176 (this is not a toll-free number). Hearing- and speech-impaired persons may access this number via TTY by calling the Federal Relay Service toll-free at (800) 877-8339. For general information on this and other HUD programs, call Community Connections at 1-800-998-9999 or visit the HUD Web site at http://www.hud.gov.

SUPPLEMENTARY INFORMATION: The Fiscal Year 2005 Community Development Technical Assistance program was designed to increase the effectiveness of HUD's HOME Investment Partnerships Program (HOME), CHDO (HOME) program, Youthbuild program, Community Development Block Grant (CDBG) program, McKinney-Vento Homeless Assistance programs (Homeless), and Housing Opportunities for Persons with AIDS (HOPWA) program through the selection of technical assistance (TA) providers for these six programs.

The competition was announced in the SuperNOFA published March 21, 2005 (70 FR 14012). The NOFA allowed for approximately $30,120,000 for CD-TA grants. Applications were rated and selected for funding on the basis of selection criteria contained in that Notice.

For the Fiscal Year 2005 competition, a total of $28,930,335 was awarded to 72 technical assistance providers nationwide.

In accordance with section 102(a)(4)(C) of the Department of Housing and Urban Development Reform Act of 1989 (103 Stat. 1987, 42 U.S.C. 3545), the Department is publishing the grantees and the amounts of the awards in Appendix A to this document.

Dated: August 3, 2006.
Nelson R. Bregon,
General Deputy Assistant Secretary for Community Planning and Development.

Fiscal Year 2005 Funding Awards for Community Development Technical Assistance Programs
Recipient | State | Amount
Council of State Community Development Associations | DC | $200,000.00
Abt Associates, Inc. | MA | 100,000.00
Training and Development Associates, Inc. | NC | 100,000.00
ICF Consulting, L.L.C. | VA | 539,000.00
Total CDBG |  | 939,000.00
State of Alaska Housing Finance Corporation | AK | 30,000.00
Rural Community Assistance Corporation | CA | 335,000.00
Housing Assistance Council | DC | 1,172,000.00
Homeless & Housing Coalition of Kentucky | KY | 150,000.00
Community Economic Development Assistance Corporation (CEDAC) | MA | 220,000.00
Institute for Community Economics, Inc. | MA | 260,000.00
Enterprise Foundation | MD | 355,000.00
Coastal Enterprises, Inc. | ME | 30,000.00
State of Michigan Department of Consumer & Industry Services | MI | 125,000.00
Minnesota Housing Partnership | MN | 140,000.00
Regional Housing and Community Development Alliance | MO | 29,700.00
Training and Development Associates, Inc. | NC | 1,570,300.00
Local Initiatives Support Corporation | NY | 805,000.00
Neighborhood Preservation Coalition of New York State, Inc. | NY | 222,000.00
New York State Rural Housing Coalition, Inc. | NY | 60,000.00
Structured Employment Economic Development Corporation (SEEDCO) | NY | 600,000.00
Ohio Capital Corporation for Housing | OH | 58,000.00
Ohio CDC Association | OH | 58,000.00
Neighborhood Partnership Fund | OR | 100,000.00
Puerto Rico Community Foundation | PR | 75,000.00
Douglas-Cherokee Economic Authority, Inc. | TN | 150,000.00
Rural Collaborative, Inc. | UT | 85,000.00
Community Frameworks (aka Northwest Regional Facilitators) | WA | 80,000.00
Urban Economic Development Association of Wisconsin, Inc. (UEDA) | WI | 86,120.00
Wisconsin Partnership for Housing Development, Inc. | WI | 113,880.00
Total CHDO |  | 6,910,000.00
State of Alaska Housing Finance Corporation | AK | 40,000.00
Rural Community Assistance Corporation | CA | 200,001.00
Colorado Rural Housing Development Consortium (CRHDC) | CO | 19,999.00
Council of State Community Development Associations | DC | 192,245.00
Dennison Associates, Inc. | DC | 994,750.00
Coastal Enterprises, Inc. | ME | 30,000.00
State of Michigan Department of Consumer & Industry Services | MI | 100,000.00
Minnesota Housing Partnership | MN | 75,000.00
Training and Development Associates, Inc. | NC | 965,000.00
New Mexico Mortgage Finance Authority | NM | 80,000.00
Capital Access, Inc. | PA | 60,250.00
Douglas-Cherokee Economic Authority, Inc. | TN | 62,500.00
Rural Collaborative, Inc. | UT | 60,000.00
ICF Consulting, L.L.C. | VA | 4,031,784.00
Vermont Housing and Conservation Board | VT | 30,000.00
Urban Economic Development Association of Wisconsin, Inc. (UEDA) | WI | 35,000.00
Wisconsin Partnership for Housing Development, Inc. | WI | 30,000.00
Total HOME |  | 7,006,529.00
State of Alaska Housing Finance Corporation | AK | 30,000.00
HomeBase/The Center for Common Concerns | CA | 200,000.00
Dennison Associates, Inc. | DC | 406,800.00
Affordable Housing Alliance | HI | 39,606.00
Illinois Community Action Association | IL | 70,000.00
Abt Associates, Inc. | MA | 4,000,000.00
Technical Assistance Collaborative, Inc. | MA | 337,732.00
University of Massachusetts at Boston | MA | 72,268.00
Enterprise Foundation | MD | 100,000.00
Biddle Management, LLC | MI | 38,000.00
Minnesota Housing Partnership | MN | 52,000.00
Training and Development Associates, Inc. | NC | 786,200.00
Corporation for Supportive Housing | NJ | 1,172,000.00
New Mexico Coalition to End Homelessness | NM | 24,999.00
Supportive Housing Network of New York | NY | 165,000.00
Partnership Center, Ltd. | OH | 125,000.00
Diana T. Meyers and Associates, Inc. | PA | 20,000.00
Douglas-Cherokee Economic Authority, Inc. | TN | 40,000.00
Community Solutions | TX | 25,001.00
ICF Consulting, L.L.C. | VA | 1,371,000.00
Common Ground | WA | 24,000.00
Total Homeless |  | 9,099,606.00
AIDS Housing Corporation | MA | 400,000.00
Training and Development Associates, Inc. | NC | 400,000.00
ICF Consulting, L.L.C. | VA | 900,000.00
AIDS Housing of Washington | WA | 200,000.00
Total HOPWA | WA | 1,900,000.00
Heartlands International, Inc. | DC | 500,000.00
YouthBuild USA, Inc. | MA | 2,575,200.00
Total Youthbuild |  | 3,075,200.00
Total |  | 28,930,335.00

[FR Doc. E6-14186 Filed 8-25-06; 8:45 am]

BILLING CODE 4210-67-P